ENVIRONMENTAL PROTECTION AGENCY

40 CFR Parts 258, 261, and 264

[RCRA-2002-0025; FRL-7916-1]

RIN 2050-AE41

Waste Management System; Testing and Monitoring Activities; Final Rule: Methods Innovation Rule and SW-846 Final Update IIIB

Correction

In rule document 05-10197 beginning on page 34538 in the issue of Tuesday, June 14, 2005, make the following corrections:

1. On page 34538, in the table, in the “Available portions of SW-846” column, in the third line from the bottom, “IIB (pdf electronic copy)” should read “IIIB (pdf electronic copy)”.

Appendix I to Part 258—[Corrected]

2. On page 34555, in Appendix I to Part 258—Constituents for Detection Monitoring, ÿ7Ein the table, under the heading “Common name ¹”, in entry (17), “Acrylonitrile 1” should read “Acrylonitrile”.ÿ7E

Appendix II to Part 258—[Corrected]

3. On page 34558, in Appendix II to Part 258—List of Hazardous Inorganic and Organic Constituents, the table is corrected in part to read as follows:

Common name ¹ | CAS RN ² | Chemical abstracts service index name ³
* * * * * * *
alpha, alpha-Dimethylphenethylamine | 122-09-8 | Benzeneethanamine, α,α-dimethyl-
* * * * * * *
Heptachlor epoxide | 1024-57-3 | 2,5-Methano-2H-indeno[1,2-b]oxirene, 2,3,4,5,6,7,7-heptachloro-1a,1b,5,5a,6,6a,-hexahydro-,(1aα,1bβ,2α,5α,5aβ,6β,6aα)
* * * * * * *

Appendix IX to Part 261—[Corrected]

4. On page 34568, in Appendix IX to Part 261—Wastes Excluded Under §§260.20 and 260.22, in the table, in entry (5), in the second paragraph, the table is corrected in part to read as follows:

Table 1.—Wastes Excluded From Non-Specific Sources
Facility | Address | Waste description
* * * * * * *
|  | Benz(a)anthracene—1 × 10⁻⁴, Benzo(a)pyrene—4 × 10 ⁻⁵, Benzo(b)fluoranthene—2 × 10 ⁻⁴, Chloroform—0.07, * * * * *
* * * * * * *

5. On the same page, in the same appendix, in the same table, in the “Waste description” column, in entry (3) Verification Testing Requirements:, in the 12th line, “Condition Texas Eastman” should read “Condition (4), Texas Eastman”. ÿ7E

Appendix IX to Part 264—[Corrected]

6. On page 34582, in Appendix IX to Part 264—Groundwater Monitoring List, in the table, under the heading “Common name ¹”, in the last line of the column, “2,4-D; 2,4-Dichlorophenoxyacetic acids” should read “2,4-D; 2,4-Dichlorophenoxyacetic acid”.

7. On page 34584, in the same appendix, in the same table, in the “Chemical abstracts service index name ³” column, in the 35th line, “O,O-dimethyl O=(4-nitrophenyl) ester” should read “O,O-dimethyl O-(4-nitrophenyl) ester”

[FR Doc. C5-10197 Filed 7-29-05; 8:45 am]

BILLING CODE 1505-01-D